SMALL BUSINESS ADMINISTRATION

[License No. 04/04-0324; License No. 04/04-0325]

Plexus Fund III, L.P., Plexus Fund QP III, L.P.; Surrender of License of Small Business Investment Companies

Pursuant to the authority granted to the United States Small Business Administration under section 309 of the Small Business Investment Act of 1958, as amended, and 13 CFR 107.1900 of the Code of Federal Regulations to function as a small business investment company under the Small Business Investment Company License Nos. 04/04-0324 and 04/04-0325 issued to Plexus Fund III, L.P. and Plexus Fund QP III, L.P., respectively, said licenses are hereby declared null and void.

Thomas Morris,
Director, Patient Capital Investments, Office of Investment and Innovation, United States Small Business Administration.

[FR Doc. 2025-01804 Filed 1-27-25; 8:45 am]

BILLING CODE P